DEPARTMENT OF JUSTICE

Antitrust Division

Notice Pursuant to the National Cooperative Research and Production Act of 1993—Photonic Batch Processing (“PBP”) Consortium

Notice is hereby given that, on February 3, 1999, pursuant to Section 6(a) of the National Cooperative Research and Production Act of 1993, 15 U.S.C. 4301 et seq. (“the Act”), Photonic Batch Processing (“PBP”) Consortium has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are Adept Technology, Inc., San Jose, CA; Newport Corporation, Irvine, CA; Rsoft, Inc., Ossining, NY; and SDL, Inc., San Jose, CA. The nature and objectives of the venture are to develop new technologies for automated batch processing for assembling optics, lasers, and other components into devices.

Constance K. Robinson,
Director of Operations, Antitrust Division.

[FR Doc. 00-8081 Filed 3-31-00; 8:45 am]

BILLING CODE 4410-11-M